CORPORATION FOR NATIONAL AND COMMUNITY SERVICE

Agency Information Collection Activities; Submission to the Office of Management and Budget for Review and Approval; Comment Request; AmeriCorps Program Life Cycle Evaluation—Volunteer Generation Fund Grant Program Evaluation

AGENCY: Corporation for National and Community Service.

ACTION: Notice of information collection; request for comment.

SUMMARY: The Corporation for National and Community Service, operating as AmeriCorps, has submitted a public information collection request (ICR) entitled AmeriCorps Program Life Cycle Evaluation—Volunteer Generation Fund Grant Program Evaluation for review and approval in accordance with the Paperwork Reduction Act.

DATES: Written comments must be submitted to the individual and office listed in the ADDRESSES section by August 26, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Xiaodong Zhang, at 703-251-0883 or by email to xiaodong.zhang@icf.com.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on May 17, 2021 at 26703-26704. This comment period ended July 16, 2021. No public comments were received from this Notice.

Title of Collection: AmeriCorps Program Life Cycle Evaluation—Volunteer Generation Fund Grant Program Evaluation.

OMB Control Number: TBD. Type of Review: New.

Respondents/Affected Public: Grantees, program implementers, volunteer organizations and volunteers.

Total Estimated Number of Annual Responses: 914 respondents.

Total Estimated Number of Annual Burden Hours: 392 hours.

Abstract: The purpose of this evaluation is to understand grantees' use of Volunteer Generation Fund (VGF) grant program funds to support volunteer organizations and determine how effective grantees' approaches are at enhancing the capacity of these organizations, increasing volunteer recruitment and retention, and increasing implementation of volunteer management best practices within their states. The research questions for this evaluation are:

1. What are the grantees' approaches for utilizing VGF funds to improve volunteer recruitment, retention, and support of volunteers within their states and among volunteer organizations?

2. What are promising practices and challenges in implementing these programs?

3. What are preliminary outcomes of these programs on volunteer organizations?

ICF will conduct a bundled evaluation of grantees that are using VGF funds to increase recruitment and retention efforts within their states. By bundling, this evaluation combines a group of state commissions with similar program approaches into a single evaluation. Spanning 27 months, the evaluation includes 14 grantees to examine program design, implementation, and outcomes using surveys, interviews, and focus groups with a wide range of stakeholders including grantee staff, program implementers, volunteer organizations, and volunteers. This is a new information collection.

Dated: July 21, 2021.
Mary Hyde,
Director, Office of Research and Evaluation.

[FR Doc. 2021-15933 Filed 7-26-21; 8:45 am]

BILLING CODE 6050-28-P